DEPARTMENT OF HEALTH AND HUMAN SERVICES

Centers for Disease Control and Prevention

[60Day-20-0995; Docket No. CDC-2019-0097]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled National Network of Sexually Transmitted Diseases Clinical Prevention Training Centers.” The purpose of the collection is to support program management of the National Network of Sexually Transmitted Disease Clinical Prevention Training Center (NNPTC) and to evaluate the reach and impact of the NNPTC's training activities.

DATES: CDC must receive written comments on or before January 3, 2020.

ADDRESSES: You may submit comments, identified by Docket No. CDC-2019-0097 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

National Network of Sexually Transmitted Diseases Clinical Prevention Training Centers (NNPTC): Evaluation (OMB Control No. 0920-0995, Exp. 05/31/2020)—Extension—National Center for HIV/AIDS, Viral Hepatitis, STD, and TB Prevention (NCHHSTP), Centers for Disease Control and Prevention (CDC).

Background and Brief Description

The Centers for Disease Control and Prevention (CDC), Division of STD Prevention requests an extension and three-year approval of the currently approved information collection request that comprises the NNPTC Abbreviated Health Professional Application for Training (NNPTC Abbreviated HPAT). This extension will allow the NNPTC Abbreviated HPAT to continue to serve as the official training application form used for training activities conducted by the Sexually Transmitted Disease (STD) Prevention Training Centers' (PTCs) grantees funded by the (CDC).

The PTCs are funded by CDC/Division of STD Prevention (DSTDP) to provide training and capacity-building that includes information, training, technical assistance and technology transfer. PTCs offer classroom and experiential training, web-based training, clinical consultation, and capacity building assistance to maintain and enhance the capacity of health care professionals to control and prevent STDs and HIV. The NNPTC Abbreviated HPAT is used to monitor and evaluate performance and reach of grantees that offer STD and HIV prevention training, training assistance, and capacity building assistance to physicians, nurses, disease intervention specialists, and health educators. During the previously approved three-year period, data was collected to monitor and evaluate the performance of the NNPTC grantees and the NNPTC program. This data provided the NNPTC with necessary information to improve program processes and operations in order to improve the quality of STD prevention and treatment.

The 4,500 respondents (who will engage in a total of 11,769 respondent instances) represent an average of the number of health professionals trained by PTC grantees during 2015. The evaluation instruments collect data on the impact of the training by the NNPTC. This data collection is necessary to assess and evaluate the performance of the grantees in delivering training and to standardize training registration processes across the PTCs. The NNPTC Abbreviated HPAT allows CDC grantees to use a single instrument when collecting demographic data from its training and capacity building participants, regarding their: (1) Occupations, professions, and functional roles; (2) principal employment settings; (3) location of their work settings; and (4) programmatic and population foci of their work. The NNPTC Abbreviated HPAT takes approximately three minutes to complete. This data collection provides CDC with information to determine whether the training grantees are reaching their target audiences in terms of provider type, the types of organizations in which participants work, the focus of their work and the population groups and geographic areas served.

The evaluation instruments are used to assess training and capacity-building outcomes (knowledge, confidence, intention to use information, actual changes made as a result of training) immediately after, and again 90 days after training events. The evaluation instruments vary based on the type of training offered and take between approximately 16 minutes (for intensive multi-day trainings) to two minutes to complete (for short didactic or webinar sessions).

The CDC's Funding Opportunity Announcement PS 14-1407, National Network of Sexually Transmitted Diseases Clinical Prevention Training Centers (NNPTC) requires the collection of national demographic information on grantees' trainees and national evaluation outcomes. There are no costs to respondents other than their time. The estimated annualized burden hours for this data collection are 502 hours.

Estimated Annualized Burden Hours
Type of respondent | Form name | Number of respondents | Number responses per respondent | Average burden per response (in hours) | Total burden hours
Healthcare Professionals | NNPTC Abbreviated Health Professional Application for Training (HPAT) | 4,500 | 1 | 3/60 | 225
Healthcare Professionals | Intensive Complete Post-Course Evaluation | 116 | 1 | 16/60 | 31
| Intensive CompleteLong-TermEvaluation | 36 | 1 | 10/60 | 6
Healthcare Professionals | Intensive-DidacticPost-CourseEvaluation | 166 | 1 | 10/60 | 28
| Intensive-DidacticLong-TermEvaluation | 58 | 1 | 7/60 | 7
Healthcare Professionals | PracticumPost-CourseEvaluation | 70 | 1 | 4/60 | 5
| PracticumLong-TermEvaluation | 20 | 1 | 3/60 | 1
Healthcare Professionals | Wet MountPost-CourseEvaluation | 40 | 1 | 3/60 | 2
| Wet MountLong-TermEvaluation | 15 | 1 | 2/60 | 1
Healthcare Professionals | STD Tx Guidelines Complete Post-CourseEvaluation | 548 | 1 | 6/60 | 55
| STD Tx Guidelines Complete Long-TermEvaluation | 180 | 1 | 5/60 | 15
Healthcare Professionals | Short GuidelinesPost-CourseEvaluation | 500 | 1 | 3/60 | 25
| Short GuidelinesLong-Term Evaluation | 160 | 1 | 3/60 | 8
Healthcare Professionals | BasicPost-CourseEvaluation | 150 | 1 | 2/60 | 5
| BasicLong-Term Evaluation | 50 | 1 | 2/60 | 2
Healthcare Professionals | Immediate Post-Course email invitation | 4,500 | 1 | 1/60 | 75
Healthcare Professionals | 3 Month Long-Term email invitation | 660 | 1 | 1/60 | 11
Total |  |  |  |  | 502

Jeffrey M. Zirger,
Lead, Information Collection Review Office, Office of Scientific Integrity, Office of Science, Centers for Disease Control and Prevention.

[FR Doc. 2019-24005 Filed 11-1-19; 8:45 am]

BILLING CODE 4163-18-P